SMALL BUSINESS ADMINISTRATION

[License No. 08/08-0174]

Surrender of License of Small Business Investment Company; vSpring III D, L.P.

Pursuant to the authority granted to the United States Small Business Administration under section 309 of the Small Business Investment Act of 1958, as amended, and 13 CFR 107.1900 of the Code of Federal Regulations on the ability to function as a Small Business Investment Company under License No. 08/08-0174 issued to vSpring III D, L.P., said license is hereby declared null and void.

Bailey DeVries,
Associate Administrator, Office of Investment and Innovation, United States Small Business Administration.

[FR Doc. 2023-02988 Filed 2-10-23; 8:45 am]

BILLING CODE P